DEPARTMENT OF HOMELAND SECURITY

Federal Emergency Management Agency

Agency Information Collection Activities: Submission for OMB Review; Comment Request

AGENCY: Federal Emergency Management Agency, Emergency Preparedness and Response Directorate, U.S. Department of Homeland Security.

ACTION: Notice and request for comments.

SUMMARY: The Federal Emergency Management Agency (FEMA) has submitted the following information collection to the Office of Management and Budget (OMB) for review and clearance in accordance with the requirements of the Paperwork Reduction Act of 1995 (44 U.S.C. Chapter 35). The submission describes the nature of the information collection, the categories of respondents, the estimated burden (i.e., the time, effort and resources used by respondents to respond) and cost, and includes the actual data collection instruments FEMA will use.

Title: Public Assistance Progress Report and Program Forms.

OMB Number: 1660-0017.

Abstract: This collection serves as the mechanism to administer the Public Assistance (PA) Program. The application process contains recordkeeping and reporting requirements via mandatory and optional completion of several forms and timeframes. The Progress Report and related forms ensure that FEMA and the State have up-to-date information on PA program grants. The report describes the status of project completion dates, and circumstances that could delay a project. States are responsible for determining reporting requirements for applicants and must submit reports quarterly to FEMA Regional Directors. The date of the report is determined jointly by the State and the Disaster Recovery Manager.

Affected Public: State, local or tribal government, and Not-for-Profit Organizations.

Number of Respondents: 5,070 respondents from State, local or tribal governments and Not-for Profit Organizations.

Estimated Time per Respondent: 134 hours per respondent allocated as follows: Progress Report = 100 hours, Mandatory Audit = 30 hours; Mandatory forms = 3 hours; and Optional forms = 1 hour.

Estimated Total Annual Burden Hours: 134,562 hours.

Frequency of Response: Quarterly or Yearly.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before October 20, 2005.

FOR FURTHER INFORMATION CONTACT: Requests for additional information or copies of the information collection should be made to Chief, Records Management, FEMA at 500 C Street, SW., Room 316, Washington, DC 20472, facsimile number (202) 646-3347, or e-mail address FEMA-Information-Collections@dhs.gov.

Dated: September 13, 2005.
Darcy Bingham,
Branch Chief, Information Resources Management Branch, Information Technology Services Division.

[FR Doc. 05-18732 Filed 9-19-05; 8:45 am]

BILLING CODE 9110-10-P